Proclamation 8660 of April 29, 2011

Jewish American Heritage Month, 2011

By the President of the United States of America

A Proclamation

Since before our Nation’s founding, America’s shores have been a safe harbor for people seeking shelter, hope, and new lives free from persecution. Here, people of all faiths have broken bread, come together, and built a better future for their families. The Jewish story is intertwined with the American story—one of overcoming great hardship, and one of commitment to building a more just world. This month, we embrace and celebrate the vast contributions Jewish Americans have made to our country.

Seeking a brighter future, a small band of Jewish refugees came to this land more than three centuries ago, to a place called New Amsterdam. Hundreds of years later, as Holocaust survivors and families caught behind the Iron Curtain made their way to America, their perseverance in the face of unimaginable tragedy inspired the world and proved that the Jewish people will not be defeated. Many endured bigotry even here, reminding us that we must continue to fight prejudice and violence at home and around the globe. In this spirit, President Truman recognized the small, fledgling nation of Israel within minutes of its creation. To this day, we continue to foster an unbreakable partnership with Israel, and we remain committed to pursuing peace in the region and ensuring Israel’s security.

From those first days in New Amsterdam, Jewish Americans have dedicated their innovation, creativity, and hearts to the greater good—contributing scientific accomplishments, pioneering works of literature and musical genius, and performing distinguished service in our Nation’s military. Jewish Americans have defended our country since the days of the American Revolution as devoted service members and chaplains, and they continue to serve with distinction in our Armed Forces.

Nearly 70 years ago, during World War II, the U.S.A.T. Dorchester suffered an explosion at sea while carrying almost a thousand soldiers and civilian workers. On board were four Army chaplains—two Protestant, one Catholic, and one Jewish. While the ship sank, the four chaplains gave their own life jackets to four men without any, calmed the wounded, and preached strength to the survivors, linking arms and praying together as the ship submerged. In a time of great need, these chaplains showed that their shared commitment to the lives of others was stronger than any division of faith or background.

This same spirit is found in the countless Jewish Americans who, through their every day actions, work to provide a better life for future generations by joining hands with all who seek equality and progress. This month, we remember that the history and unique identity of Jewish Americans is part of the grand narrative of our country, forged in the friendships and shared wisdom between people of different faiths.

NOW, THEREFORE, I, BARACK OBAMA, President of the United States of America, by virtue of the authority vested in me by the Constitution and the laws of the United States, do hereby proclaim May 2011 as Jewish American Heritage Month. I call upon all Americans to visit www.JewishHeritageMonth.gov to learn more about the heritage and contributions of Jewish Americans and to observe this month with appropriate programs, activities, and ceremonies.

IN WITNESS WHEREOF, I have hereunto set my hand this twenty-ninth day of April, in the year two thousand eleven, and of the Independence of the United States of America the two hundred and thirty-fifth.

[FR Doc. 2011-11063

Filed 5-4-11; 8:45 am]

Billing code 3195-W1-P